DEPARTMENT OF TRANSPORTATION

Federal Aviation Administration

14 CFR Part 39

[Docket No. 2001-NM-177-AD; Amendment 39-12293; AD 2001-13-13]

RIN 2120-AA64

Airworthiness Directives; Airbus Model A330 and A340 Series Airplanes

AGENCY: Federal Aviation Administration, DOT.

ACTION: Final rule; request for comments.

SUMMARY: This amendment adopts a new airworthiness directive (AD) that is applicable to all Airbus Model A330 and A340 series airplanes. This action requires revising the Airplane Flight Manual to advise the flight crew of appropriate procedures to follow in the event of lost or erroneous airspeed indications. This action is necessary to prevent inadvertent excursions outside the normal flight envelope. This action is intended to address the identified unsafe condition.

DATES: Effective July 12, 2001.

Comments for inclusion in the Rules Docket must be received on or before July 27, 2001.

ADDRESSES: Submit comments in triplicate to the Federal Aviation Administration (FAA), Transport Airplane Directorate, ANM-114, Attention: Rules Docket No. 2001-NM-177-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2001-NM-177-AD” in the subject line and need not be submitted in triplicate. Comments sent via the Internet as attached electronic files must be formatted in Microsoft Word 97 for Windows or ASCII text.

Information concerning this AD may be examined at the FAA, Transport Airplane Directorate, 1601 Lind Avenue, SW., Renton, Washington.

FOR FURTHER INFORMATION CONTACT: Tamra Elkins, Aerospace Engineer, International Branch, ANM-116, FAA, Transport Airplane Directorate, 1601 Lind Avenue, SW., Renton, Washington 98055-4056; telephone (425) 227-2669; fax (425) 227-1149.

SUPPLEMENTARY INFORMATION: The Direction Générale de l'Aviation Civile (DGAC), which is the airworthiness authority for France, notified the FAA that an unsafe condition may exist on all Airbus Model A330 and A340 series airplanes. The DGAC advises that operators have reported several cases of sudden fluctuation of airspeed indications (including calibrated airspeed, true airspeed, and Mach) in cruise during severe icing conditions. Lost or erroneous airspeed indications could result in lack of sufficient information for the flight crew to safely operate the airplane, and consequent inadvertent excursions outside the normal flight envelope.

DGAC Actions

The DGAC has issued French airworthiness directives 2001-068(B) and 2001-069(B), both dated February 21, 2001, to ensure the continued airworthiness of these airplanes in France. Those directives and this AD advise the flight crew to follow the same procedures under the same conditions.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Rule

Since an unsafe condition has been identified that is likely to exist or develop on other airplanes of the same type design registered in the United States, this AD is being issued to prevent inadvertent excursions outside the normal flight envelope due to insufficient information for the flight crew to safely operate the airplane. This AD requires revising the FAA-approved Airplane Flight Manual (AFM) to advise the flight crew of appropriate procedures to follow in the event of such airspeed anomalies.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket 2001-NM-177-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-13-13 Airbus Industrie: Amendment 39-12293. Docket 2001-NM-177-AD.

Applicability: All Model A330 and A340 series airplanes, certificated in any category.

Compliance: Required as indicated, unless accomplished previously.

To prevent inadvertent excursions outside the normal flight envelope by ensuring that the flight crew is advised of appropriate procedures to follow in the event of lost or erroneous airspeed indications, accomplish the following:

Revision of Airplane Flight Manual (AFM)

(a) Within 10 days after the effective date of this AD, revise the “Procedures Following Failure” of Section 4 of the FAA-approved AFM to include the following information. This may be accomplished by inserting a copy of this AD into the AFM.

“In the event of erroneous airspeed in flight or at take-off, or if the airspeed indication is lost, accomplish the following:

Unreliable Airspeed

Note: Unreliable airspeed may be caused by a radome destruction or obstructed pitots. If the failure is due to radome destruction, the drag will be increased and therefore N1 must be increased by 3% in cruise or 1.5% in approach.

Switch OFF the AP/FD and A/THR

Maintain flaps/slats in current configuration

Check that speedbrakes are retracted

When airborne, select landing gear up

• With slats extended—Apply MCT thrust and set the pitch attitude to 12.5°

• In clean configuration—Apply CLB thrust

• When below FL100, set the pitch attitude to 10°

• When above FL100, set the pitch attitude to 5°

Note: Respect Stall warning if in alternate law

When the flight path is stabilized, set the PROBE WINDOW HEAT to ON.

Adjust pitch attitude and thrust regarding flight phase and aircraft configuration to obtain and maintain target speed.

In the event of a double pitot probe heat failure, accomplish the following:

Double Probe Heat Failure

If icing conditions cannot be avoided:

Switch OFF one of the affected ADRs”

Note 1: The procedures identified in paragraph (a) of this AD have been introduced into the A330 AFM by the manufacturer at the revision levels listed below.

Airplane model | Revision number
A330-202 | 04
A330-223 | 04
A330-243 | 03
A330-301 | 05
A330-321 | 04
A330-322 | 04
A330-323 | 03
A330-341 | 04
A330-342 | 04
A330-343 | 03

Note 2: When the information in paragraph (a) of this AD has been incorporated into the FAA-approved general revisions of the AFM, the general revisions may be incorporated into the AFM, provided the information in this AD and the general revisions is identical. This AD may then be removed from the AFM.

Alternative Methods of Compliance

(b) An alternative method of compliance or adjustment of the compliance time that provides an acceptable level of safety may be used if approved by the Manager, International Branch, ANM-116, Transport Airplane Directorate, FAA. Operators shall submit their requests through an appropriate FAA Principal Operations Inspector, who may add comments and then send it to the Manager, International Branch, ANM-116.

Note 3: Information concerning the existence of approved alternative methods of compliance with this AD, if any, may be obtained from the International Branch, ANM-116.

Special Flight Permits

(c) Special flight permits may be issued in accordance with sections 21.197 and 21.199 of the Federal Aviation Regulations (14 CFR 21.197 and 21.199) to operate the airplane to a location where the requirements of this AD can be accomplished.

Note 4: The subject of this AD is addressed in French airworthiness directives 2001-068(B) and 2001-069(B), both dated February 21, 2001.

Effective Date

(d) This amendment becomes effective on July 12, 2001.

Issued in Renton, Washington, on June 20, 2001.
Kalene C. Yanamura,
Acting Manager, Transport Airplane Directorate, Aircraft Certification Service.

[FR Doc. 01-16050 Filed 6-26-01; 8:45 am]

BILLING CODE 4910-13-U